DEPARTMENT OF COMMERCE

National Oceanic and Atmospheric Administration

[RTID 0648-XB853]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one day in-person and virtual meeting (hybrid) of its Shrimp Advisory Panel (AP).

DATES: The meeting will convene Tuesday, March 29, 2022, 8:30 a.m. to 5 p.m., EST. For agenda details, see SUPPLEMENTARY INFORMATION.

ADDRESSES: Those who prefer to attend the meeting in-person may do so at the Gulf Council office. If you are unable or do not wish to travel, you may participate in the meeting via webinar. Registration information will be available on the Council's website by visiting www.gulfcouncil.org and clicking on the Shrimp AP meeting on the calendar.

Council address: Gulf of Mexico Fishery Management Council, 4107 W Spruce Street, Suite 200, Tampa, FL 33607; telephone: (813) 348-1630.

FOR FURTHER INFORMATION CONTACT: Dr. Matt Freeman, Economist, Gulf of Mexico Fishery Management Council; matt.freeman@gulfcouncil.org, telephone: (813) 348-1630.

SUPPLEMENTARY INFORMATION: The following items are on the agenda, though agenda items may be addressed out of order (changes will be noted on the Council's website when possible.)

Tuesday, March 29, 2022; 8:30 a.m.-5 p.m. EST (7:30 a.m.-4 p.m. CST)

Meeting will begin with Adoption of Agenda, Approval of Minutes from December 7-8, 2021 meeting, and Scope of Work. The AP will review Council Actions in Response to Motions from the December 2021 Shrimp AP Meeting and January 2022 Council Meeting Motions.

The AP will receive updates on the Council Request for Proposal (RFP) to Address Expanded Sampling of the Fleet for Effort Monitoring in the Gulf Shrimp Industry and on the Plan for Pilot Testing of Vessel Monitoring System (VMS) Units on Gulf Shrimp Vessels, and then review the National Marine Fisheries Services' (NMFS) Evaluation of Draft Approval Specifications for Reinstituting Historical cELB Program.

The AP will review the Draft Shrimp Framework Action, followed by updates on the NMFS Shrimp Working Groups, on the development of brown and white shrimp empirical dynamic models (EDM) including related motions from the SSC Meeting in March 2022, and on the Gulf of Mexico Atlantis ecosystem model development and the intention to use the peer-reviewed model for shrimp simulations and strategic management advice.

The AP will review the 2020 Gulf Shrimp Fishery Effort and Landings and then receive an update on the Number of Active Gulf Shrimp Permits, Economic Estimates, Royal Red Landings, and 2020 Royal Red Index.

The AP will discuss the Biological Review of the Texas Closure and receive updates on Sea Turtle Take and TED Compliance and on the Publication of Gulf of Mexico Aquaculture Opportunity Areas' Notice of Intent.

Lastly, the AP will receive any public testimony and discuss other business items. Meeting Adjourns—

The in-person meeting will be broadcast via webinar. You may register by visiting www.gulfcouncil.org and clicking on the Shrimp Advisory Panel meeting on the calendar.

The Agenda is subject to change, and the latest version along with other meeting materials will be posted on www.gulfcouncil.org as they become available.

Although other non-emergency issues not on the agenda may come before the Advisory Panel for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take-action to address the emergency at least 5 working days prior to the meeting.

Special Accommodations

The meeting is physically accessible to people with disabilities. Requests for sign language interpretation or other auxiliary aid or accommodations should be directed to Kathy Pereira, kathy.pereira@gulfcouncil.org, at least 5 days prior to the meeting date.

Authority: 16 U.S.C. 1801 et seq.

Dated: March 4, 2022.
Tracey L. Thompson,
Acting Deputy Director, Office of Sustainable Fisheries, National Marine Fisheries Service.

[FR Doc. 2022-05003 Filed 3-8-22; 8:45 am]

BILLING CODE 3510-22-P